DEPARTMENT OF JUSTICE

[OMB Number 1125-0007]

Agency Information Collection Activities; Proposed Collection eComments Requested; Extension and Revision of a Previously Approved Collection; Immigration Practitioner/Organization Complaint Form

AGENCY: Executive Office for Immigration Review, Department of Justice.

ACTION: 60-Day notice.

SUMMARY: The Executive Office for Immigration Review (EOIR), Department of Justice (DOJ), will be submitting the following information collection request to the Office of Management and Budget (OMB) for review and approval in accordance with the Paperwork Reduction Act of 1995.

DATES: Comments are encouraged and will be accepted for 60 days until September 2, 2025.

FOR FURTHER INFORMATION CONTACT: If you have additional comments especially on the estimated public burden or associated response time, suggestions, or need a copy of the proposed information collection instrument with instructions or additional information, please contact Justine Fuga, Associate General Counsel, Office of the General Counsel, Executive Office for Immigration Review, 5107 Leesburg Pike, Suite 2600, Falls Church, VA 22041, telephone: (703) 305-0265, Justine.Fuga@usdoj.gov, eoir.pra.comments@usdoj.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: Any individual may file a complaint against an immigration practitioner authorized to practice before the Board of Immigration Appeals (Board) and the immigration courts of EOIR. See 8 CFR 1003.102. An individual filing a complaint regarding a practitioner's behavior in proceedings before EOIR must file the complaint in writing by mail or email to EOIR's Office of the General Counsel's Attorney Discipline Unit (ADU) using Form EOIR-44. The completed form must state in detail certain information supporting the complaint, including the name and address of both the complainant and the practitioner, the date and nature of the alleged conduct or behavior at issue, the individuals involved, the harm to or damages incurred by the complainant, and any other relevant information. See 8 CFR 1003.104(a)(2). The information on this form will be used to determine whether the ADU should conduct a preliminary disciplinary inquiry, request additional information from the complainant, refer the matter to a state bar disciplinary authority or other law enforcement agency, or take no further action. EOIR has revised the Privacy Act Notice on the form to update citations to legal authority and clarify how EOIR uses the collected information.

Overview of This Information Collection

1. Type of Information Collection: Extension and Revision of a previously approved collection.

2. The Title of the Form/Collection: Immigration Practitioner Complaint Form.

3. The agency form number, if any, and the applicable component of the Department sponsoring the collection: The agency form number is EOIR-44, and the sponsoring component is EOIR.

4. Affected public who will be asked or required to respond, as well as the obligation to respond: The affected public are individuals and households. The obligation to respond is voluntary.

5. An estimate of the total number of respondents and the amount of time estimated for an average respondent to respond: It is estimated that an average of 100 respondents will complete the form annually with an average of 2 hours per response.

6. An estimate of the total annual burden (in hours) associated with the collection: EOIR estimates an average of 200 total annual burden hours associated with this collection.

Activity | Number of respondents | Frequency (annually) | Total annual responses | Time per response (hours) | Total annual burden (hours)
EOIR-44—individuals or households | 100 | 1 | 100 | 2 | 200

7. An estimate of the total annual cost burden associated with the collection, if applicable: The total estimated annual public cost is $1,020. There are no capital or start-up costs associated with this information collection. There are no fees associated with filing the form. Most responses are printed and submitted by mail to the agency. The total annual printing cost to individuals is estimated at $10.00 ($0.10 per page × 1 page × 100 respondents). The total postage cost to individuals is estimated at $1,010.00 ($10.10 Priority Mail flat rate envelope × 100 respondents). However, the printing and postage costs may be avoided by electronically completing the form and submitting the form by email.

If additional information is required contact: Darwin Arceo, Department Clearance Officer, United States Department of Justice, Justice Management Division, Policy and Planning Staff, Two Constitution Square, 145 N Street NE, 4W-218, Washington, DC.

Dated: June 27, 2025.
Darwin Arceo,
Department Clearance Officer for PRA, U.S. Department of Justice.

[FR Doc. 2025-12291 Filed 7-1-25; 8:45 am]

BILLING CODE 4410-30-P